DEPARTMENT OF ENERGY

Nuclear Energy Advisory Committee; Meeting

AGENCY: Office of Nuclear Energy, Department of Energy.

ACTION: Notice of open meeting.

SUMMARY: This notice announces a meeting of the Nuclear Energy Advisory Committee (NEAC). The Federal Advisory Committee Act (Pub. L. 92-463, 86 Stat. 770) requires that public notice of these meetings be announced in the Federal Register.

DATES: Wednesday, June 15, 2011, 8:30 a.m.-4:30 p.m.

ADDRESSES: L'Enfant Plaza Hotel, 480 L'Enfant Plaza, SW., Washington, DC 20024.

FOR FURTHER INFORMATION CONTACT: Kenneth Chuck Wade, Designated Federal Officer, U.S. Department of Energy, 1000 Independence Avenue, SW., Washington, DC 20585; telephone (301) 903-6509; e-mail Kenneth.wade@nuclear.energy.gov.

SUPPLEMENTARY INFORMATION: Background: The Nuclear Energy Advisory Committee (NEAC), formerly the Nuclear Energy Research Advisory Committee (NERAC), was established in 1998 by the U.S. Department of Energy (DOE) to provide advice on complex scientific, technical, and policy issues that arise in the planning, managing, and implementation of DOE's civilian nuclear energy research programs. The committee is composed of 16 individuals of diverse backgrounds selected for their technical expertise and experience, established records of distinguished professional service, and their knowledge of issues that pertain to nuclear energy.

Purpose of the Meeting: To inform the committee of recent developments and current status of research programs and projects pursued by the Department of Energy's Office of Nuclear Energy and receive advice and comments in return from the committee.

Tentative Agenda: The meeting is expected to include presentations that cover such topics as the Office of Nuclear Energy's 2011 Budget and the status of Nuclear Energy's New Start Programs. The Nuclear Reactor Technology subcommittee will present its final report on the Next Generation Nuclear Power Reactor and the Fuel Cycle subcommittee will update the Committee on its efforts. Finally, the Committee will be given a presentation on the status of Japan's Fukushima Daiichi nuclear power facility. The agenda may change to accommodate committee business. For updates, one is directed to the NEAC Web site: http://www.ne.doe.gov/neac/neNeacMeetings.html.

Public Participation: Individuals and representatives of organizations who would like to offer comments and suggestions may do so on the day of the meeting, Wednesday June 15, 2011. Approximately thirty minutes will be reserved for public comments. Time allotted per speaker will depend on the number who wish to speak but is not expected to exceed 5 minutes. Anyone who is not able to make the meeting or has had insufficient time to address the committee is invited to send a written statement to Kenneth Chuck Wade, U.S. Department of Energy, 1000 Independence Avenue, SW., Washington, DC 20585, or e-mail: kenneth.wade@nuclear.energy.gov.

Minutes: The minutes of the meeting will be available by contacting Mr. Wade at the address above or on the Department of Energy, Office of Nuclear Energy's Web site at: http://www.ne.doe.gov/neac/neNeacMeetings.html.

Issued at Washington, DC, on April 22, 2011.
LaTanya Butler,
Acting Deputy Committee Management Officer.

[FR Doc. 2011-10274 Filed 4-27-11; 8:45 am]

BILLING CODE 6450-01-P